CONSUMER FINANCIAL PROTECTION BUREAU

Combined Community Bank Advisory Council and Credit Union Advisory Council Meeting

AGENCY: Consumer Financial Protection Bureau.

ACTION: Notice of public meeting.

SUMMARY: Under the Federal Advisory Committee Act (FACA), this notice sets forth the announcement of a public meeting of the Community Bank Advisory Council (CBAC or Council) and the Credit Union Advisory Council (CUAC or Council) of the Consumer Financial Protection Bureau (CFPB). The notice also describes the functions of the Councils.

DATES: The meeting date is Wednesday, February 12, 2025, from approximately 1 p.m. to 3 p.m., eastern time. This meeting will be held virtually and is open to the general public. Members of the public will receive the agenda and dial-in information when they RSVP.

FOR FURTHER INFORMATION CONTACT: Kim George, Outreach and Engagement Associate, Advisory Board and Councils, External Affairs Division, at 202-450-8617, or email: CFPB_CABandCouncilsEvents@cfpb.gov. If you require this document in an alternative electronic format, please contact CFPB_Accessibility@cfpb.gov.

SUPPLEMENTARY INFORMATION:

I. Background

Section 2 of the CBAC and CUAC Charters provide that pursuant to the executive and administrative powers conferred on the CFPB by section 1012 of the Dodd-Frank Wall Street Reform and Consumer Protection Act, the Director of the CFPB renews the discretionary Community Bank Advisory Council and the Credit Union Advisory Council under agency authority in accordance with the provisions of the Federal Advisory Committee Act (FACA), as amended, 5 U.S.C. 10.

Section 3 of the CBAC and CUAC Charters state that the purpose of the CBAC and CUAC is to advise the CFPB in the exercise of its functions under the Federal consumer financial laws as they pertain to community banks with total assets of $10 billion or less.

II. Agenda

The CBAC and CUAC will discuss broad policy matters related to the Bureau's Unified Regulatory Agenda and general scope of authority.

If you require any additional reasonable accommodation(s) in order to attend this event, please contact the Reasonable Accommodations team at CFPB_ReasonableAccommodations@cfpb.gov, 48 business hours prior to the start of this event. Written comments will be accepted from interested members of the public and should be sent to CFPB_CABandCouncilsEvents@cfpb.gov, a minimum of seven (7) days in advance of the meeting. The comments will be provided to the CBAC and CUAC members for consideration. Individuals who wish to join this meeting must RSVP via this link https://surveys.consumerfinance.gov/jfe/form/SV_cLJVOSnuTYEFF5A.

III. Availability

The Councils' agenda will be made available to the public on Tuesday, February 11, 2025, via consumerfinance.gov.

A recording and summary of this meeting will be available after the meeting on the Bureau's website consumerfinance.gov.

Jocelyn Sutton,
Deputy Chief of Staff, Consumer Financial Protection Bureau.

[FR Doc. 2025-01761 Filed 1-24-25; 8:45 am]

BILLING CODE 4810-AM-P